DEPARTMENT OF COMMERCE

National Oceanic and Atmospheric Administration

15 CFR Part 902

[Docket No. 031016260-3260-01; I.D. 091603A]

RIN 0648-AR71

NOAA Information Collection Requirements; Update and Correction

Correction

In rule document 03-27181 beginning on page 61339 in the issue of Tuesday, October 28, 2003 make the following correction:

§ 902.1 [Corrected]

1. On the same page, in §902.1(b), in the third column, the table is corrected in part with the following additions to read as follows:

§ 902.1 OMB control numbers assigned pursuant to the Paperwork Reduction Act.

(b) Display

CFR part or section where the information collection requirement is located | Current OMB control number (all numbers begin with 0648-)
* * * * *
50 CFR
* * * * *
640.6 | -0358 and -0359
648.8 | -0350
648.9 | -0202 and -0404
648.10 | -0202
* * * * *
648.58 | -0202 and -0416
* * * * *
648.80 | -0202 and -0422
* * * * *
648.84 | -0202 and -0351
* * * * *
654.6 | -0358 and -0359
* * * * *
660.16 | -0361
* * * * *
660.24 | -0360
660.25 | -0441
* * * * *
660.305 | -0355
660.322 | -0352
* * * * *
679.4(b), (f), (h), and (i) | -0206
679.4(d) and (e) | -0272
679.4(g) and (k) | -0334
679.4(l) | -0393
679.5(a) | -0213, -0269, -0272, and -0401
679.5(b), (c), (d), (g), (h), (i), (j), (k) and (m) | -0213
679.5(e), (f), and (o) | -0401
679.5(l)(1), (l)(2), (l)(3), (l)(4), and (l)(5) | -0272
679.5(l)(7) | -0398
679.5(n) | -0269
679.5(p) | -0428
* * * * *
679.24(a) | -0353
679.24(e) | -0454
* * * * *
679.28(b) and (d) | -0330
* * * * *
679.32(c) | -0269 and -0330
679.32(d) | -0269
679.32(f) | -0269 and -0272
679.40 | -0272
* * * * *
679.43 | -0272 and -0398
679.45 | -0398
679.50 | -0318
* * * * *
679.61(c) and (f) | -0401
679.61(d) and (e) | -0393
679.62(b)(3) and (c) | -0401
679.63(a)(2) | -0330
* * * * *

[FR Doc. C3-27181 Filed 11-3-03; 8:45 am]

BILLING CODE 1505-01-D

ENVIRONMENTAL PROTECTION AGENCY

40 CFR Part 52

[IA 187-1187a; FRL-7569-9]

Approval and Promulgation of State Implementation Plans; State of Iowa

Correction

In rule document 03-25396 beginning on page 58019 in the issue of Wednesday, October 8, 2003, make the following correction:

§52.820 [Corrected]

On page 58022, in §52.820(c), in the table, under the heading “Comments”, in the first line “of and “variance ” ” should read “of “variance ” ”.

[FR Doc. C3-25396 Filed 11-3-03; 8:45 am]

BILLING CODE 1505-01-D

DEPARTMENT OF HOMELAND SECURITY

Coast Guard

33 CFR Parts 104, 160, and 165

46 CFR Parts 2, 31, 71, 91, 115, 126, and 176

[USCG-2003-14749]

RIN 1625-AA46

Vessel Security

Correction

In rule document 03-26347 beginning on page 60483 in the issue of Wednesday, October 22, 2003, make the following correction:

On page 60483, in the second column, in the DATES section, in the second line, “November 19, 2003” should read “November 21, 2003.”

[FR Doc. C3-26347 Filed 11-3-03; 8:45 am]

BILLING CODE 1505-01-D

DEPARTMENT OF HOMELAND SECURIITY

Coast Guard

33 CFR Part 101

[USCG-2003-14792]

RIN 1625-AA69

Implementation of National Maritime Security Initiatives

Correction

In rule document 03-26345 beginning on page 60448 in the issue of Wednesday, October 22, 2003, make the following correction:

§101.420 [Corrected]

On page 60472, in the second column, in §101.420(b), in the 14th line, “(G√MOC)” should read “(G-MOC). ”

[FR Doc. C3-26345 Filed 11-3-03; 8:45 am]

BILLING CODE 1505-01-D